U.S. INTERNATIONAL DEVELOPMENT FINANCE CORPORATION

Notice of Cancellation of public hearing

AGENCY: U.S. International Development Finance Corporation.

ACTION: Cancellation of public hearing.

SUMMARY: The June 8, 2022, Public Hearing of the DFC Board of Directors has been cancelled and will be rescheduled.

FOR FURTHER INFORMATION CONTACT: Catherine F.I. Andrade, DFC Corporate Secretary, (202) 336-8768, or candrade@dfc.gov.

SUPPLEMENTARY INFORMATION: DFC published notice of its June 8, 2022 Public Hearing of the Board of Directors in the Federal Register volume 87, page 26741 on May 5, 2022. This hearing is cancelled due to scheduling conflicts. The public will be notified when the public hearing is rescheduled.

Authority: 22 U.S.C. 9613(c).

Catherine F.I. Andrade,
DFC Corporate Secretary.

[FR Doc. 2022-12196 Filed 6-6-22; 8:45 am]

BILLING CODE 3210-02-P